DEPARTMENT OF COMMERCE

Foreign-Trade Zones Board

[B-25-2015]

Foreign-Trade Zone (FTZ) 122—Corpus Christi, Texas; Notification of Proposed Production Activity; M & G Resins, LLC, (Polyethylene Terephthalate and Terephthalic Acid); Corpus Christi, Texas

The Port of Corpus Christi Authority, grantee of FTZ 122, submitted a notification of proposed production activity to the FTZ Board on behalf of M & G Resins, LLC (M & G), located in Corpus Christi, Texas. The notification conforming to the requirements of the regulations of the FTZ Board (15 CFR 400.22) was received on April 17, 2015.

The M & G facility is located within Subzone 122S. The facility will be used for the manufacturing of polyethylene terephthalate and terephthalic acid. Pursuant to 15 CFR 400.14(b), FTZ activity would be limited to the specific foreign-status materials and components and specific finished products described in the submitted notification (as described below) and subsequently authorized by the FTZ Board.

Production under FTZ procedures could exempt M & G from customs duty payments on the foreign status components used in export production. On its domestic sales, M & G would be able to choose the duty rates during customs entry procedures that apply to polyethylene terephthalate (PET) and terephthalic acid (PTA) (duty rate 6.5%) for the foreign status inputs noted below. Customs duties also could possibly be deferred or reduced on foreign status production equipment.

The components and materials sourced from abroad include: Ethylene glycol, para-xylene and acetic acid (duty rate ranges from duty-free to 5.5%).

Public comment is invited from interested parties. Submissions shall be addressed to the Board's Executive Secretary at the address below. The closing period for their receipt is June 9, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: April 24, 2015.
Andrew McGilvray,
Executive Secretary.

[FR Doc. 2015-10166 Filed 4-29-15; 8:45 am]

BILLING CODE 3510-DS-P